DEPARTMENT OF DEFENSE

Department of the Navy

[Docket ID: USN-2011-0001]

Privacy Act of 1974; System of Records

AGENCY: U.S. Marine Corps, DoD.

ACTION: Notice to Delete Four Systems of Records.

SUMMARY: The U.S. Marine Corps is deleting four systems of records notices from its existing inventory of record systems subject to the Privacy Act of 1974, (5 U.S.C. 552a), as amended.

DATES: This proposed action will be effective without further notice on February 22, 2011 unless comments are received which result in a contrary determination.

ADDRESSES: You may submit comments, identified by docket number and/Regulatory Information Number (RIN) and title, by any of the following methods:

• Federal Rulemaking Portal: http://www.regulations.gov.

Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Tracy Ross at (703) 614-4008, or Headquarters, U.S. Marine Corps, FOIA/PA Section (ARSF), 2 Navy Annex, Room 3134, Washington, DC 20380-1775.

SUPPLEMENTARY INFORMATION: The Office of the Secretary of Defense systems of records notices subject to the Privacy Act of 1974, (5 U.S.C. 552a), as amended, have been published in the Federal Register and are available from the FOR FURTHER INFORMATION CONTACT address above.

The U.S. Marine Corps proposes to delete four systems of records notices from its inventory of record systems subject to the Privacy Act of 1974 (5 U.S.C. 552a), as amended. The proposed deletion is not within the purview of subsection (r) of the Privacy Act of 1974, (5 U.S.C. 552a), as amended, which requires the submission of a new or altered system report.

Dated: January 13, 2011.
Morgan F. Park,
Alternate OSD Federal Register Liaison Officer, Department of Defense.

Deletions:

MIL00001, Assignment and Occupancy of Family House Records (May 11, 1999, 64 FR 25299).

MIL00002, Unaccompanied Personnel Housing Registration System (February 22, 1993, 58 FR 10630).

Reason: These records are covered under system of records notice NM11101-1, DON Family and Bachelor Housing Program (April 1, 2008, 73 FR 17334), therefore these notices can be deleted.

MIL00014, Exchange Privilege Authorization Log (February 22, 1993, 58 FR 10630).

MIL00022, Delinquent Clothing Alteration List (February 22, 1993, 58 FR 10630).

Reason: Presenting a valid Military ID has rendered these systems obsolete; therefore these notices can be deleted. All records have run their retention/disposition and have been destroyed.

[FR Doc. 2011-1087 Filed 1-19-11; 8:45 am]

BILLING CODE 5001-06-P